DEPARTMENT OF ENERGY

Federal Energy Regulatory Commission

[Project No. 7313-003]

Charlotte B. Zilm and William M. Zilm; Kurt and Velma Zilm; Notice of Transfer of Exemption

1. By letter filed November 22, 2024, Kurt and Velma Zilm, pursuant to 18 CFR 4.94(g), informed the Commission that they are the new owners of the exemption from licensing for the Zilm Hydroelectric Project No. 7313, originally issued January 20, 1984. The project is located on Four Mile Stream in Garfield County, Colorado. The transfer of an exemption does not require Commission approval.

2. Kurt and Velma Zilm are located at 217 Todd Street, Hamden, CT 06518.

Dated: February 27, 2025.
Debbie-Anne A. Reese,
Secretary.

[FR Doc. 2025-03552 Filed 3-4-25; 8:45 am]

BILLING CODE 6717-01-P